NUCLEAR REGULATORY COMMISSION

10 CFR Part 63

RIN 3150-AH68

Implementation of a Dose Standard After 10,000 Years; Extension of Comment Period

AGENCY: Nuclear Regulatory Commission.

ACTION: Proposed rule: Extension of comment period.

SUMMARY: On September 8, 2005 (70 FR 53313), the U.S. Nuclear Regulatory Commission (NRC) published for public comment a proposed rule that would amend its regulations governing the disposal of high-level radioactive wastes in a proposed geologic repository at Yucca Mountain, Nevada. The proposed rule would implement the U.S. Environmental Protection Agency's (EPA's) proposed standards for doses that could occur after 10,000 years but within the period of geologic stability. The comment period for EPA's proposed standards currently expires on November 21, 2005 (extended 30 days from October 21, 2005); the comment period for NRC's proposed rule currently expires on November 7, 2005.

A letter was received from U.S. Senators Harry Reid and John Ensign from the State of Nevada requesting that the comment period for NRC's proposed rule be extended to a total of 180 days, or at least past the date of EPA's 30-day extension. Another letter representing several citizen and environmental groups requested that the deadline for comments be extended to 180 days. In addition, a letter from the Agency for Nuclear Projects, on behalf of the State of Nevada, requested that NRC extend its comment period for an additional 30 days, consistent with EPA's 30-day extension of its comment period.

Given the interrelationship between these two proposed rules, and for consistency with the ongoing EPA rulemaking process, NRC has decided to extend the comment period for its rulemaking an additional 30 days to December 7, 2005, for a total comment period of 90 days. In vacating the compliance period in NRC's rule at 10 CFR part 63, the United States Court of Appeals for the District of Columbia Circuit has made clear that it is “NRC's obligation under the [Energy Policy Act of 1992] to maintain licensing criteria that are consistent with the public health and safety standards promulgated by EPA.” See Nuclear Energy Institute, Inc. v. EPA, 373 F.3d 1251, 1299 (D.C. Cir. 2004). Thus NRC's proposed rule, for the most part, simply implements EPA's proposed standards for doses that could occur after 10,000 years but within the period of geologic stability, and its final rule will need to implement any changes EPA may make with respect to its standards. NRC's proposed rule provides further detail for implementing the EPA standard in only two specific areas: A value to represent climate change after 10,000 years; and a requirement that calculations of radiation doses for workers use the same weighting factors that EPA is proposing for calculating individual doses to members of the public. A lengthy period of time should not be needed by potential commenters to address these issues. Hence the NRC's 30-day extension is believed to be appropriate.

DATES: The comment period has been extended and now expires on December 7, 2005. Comments received after this date will be considered if it is practical to do so, but NRC is able to assure consideration only for comments received on or before this date.

ADDRESSES: You may submit comments by any one of the following methods. Please include the following number (RIN 3150-AH68) in the subject line of your comments. Comments on rulemakings submitted in writing or in electronic form will be made available to the public in their entirety on the NRC rulemaking Web site. Personal information will not be removed from your comments.

Mail comments to: Secretary, U.S. Nuclear Regulatory Commission, Washington, DC 20555-0001, Attn: Rulemakings and Adjudications Staff.

E-mail comments to: SECY@nrc.gov. If you do not receive a reply e-mail confirming that we have received your comments, contact us directly at (301) 415-1966. You may also submit comments via the NRC's rulemaking Web site at http://ruleforum.llnl.gov. Address questions about our rulemaking Web site to Carol Gallagher (301) 415-5905; e-mail cag@nrc.gov. Comments can also be submitted via the Federal eRulemaking Portal at http://www.regulations.gov.

Hand deliver comments to: 11555 Rockville Pike, Rockville, Maryland 20852, between 7:30 a.m. and 4:15 p.m. Federal workdays. (Telephone (301) 415-1966.)

Fax comments to: Secretary, U.S. Nuclear Regulatory Commission at (301) 415-1101.

Publicly available documents related to this rulemaking may be examined and copied for a fee at the NRC's Public Document Room, Public File Area O1 F21, One White Flint North, 11555 Rockville Pike, Rockville, Maryland. Selected documents, including comments, can be viewed and downloaded electronically via the NRC rulemaking Web site at http://ruleforum.llnl.gov.

Publicly available documents created or received at the NRC after November 1, 1999, are available electronically at the NRC's Electronic Reading Room at http://www.nrc.gov/NRC/ADAMS/index.html. From this site, the public can gain entry into the NRC's Agencywide Document Access and Management System (ADAMS), which provides text and image files of NRC's public documents. If you do not have access to ADAMS or if there are problems in accessing the documents located in ADAMS, contact the NRC Public Document Room Reference staff at 1-800-397-4209, (301) 415-4737, or by e-mail to pdr@nrc.gov.

FOR FURTHER INFORMATION CONTACT: Timothy McCartin, Office of Nuclear Material Safety and Safeguards, U.S. Nuclear Regulatory Commission, Washington, DC 20555-0001, telephone (301) 415-7285, e-mail tjm3@nrc.gov; Janet Kotra, Office of Nuclear Material Safety and Safeguards, U.S. Nuclear Regulatory Commission, Washington, DC 20555-0001, telephone (301) 415-6674, e-mail jpk@nrc.gov; or Frank Cardile, Office of Nuclear Material Safety and Safeguards, U.S. Nuclear Regulatory Commission, Washington, DC 20555-0001, telephone (301) 415-6185, e-mail fpc@nrc.gov.

Dated at Rockville, Maryland, this 1st day of November, 2005.
For the Nuclear Regulatory Commission.
Luis A. Reyes,
Executive Director for Operations.

[FR Doc. 05-22121 Filed 11-3-05; 8:45 am]

BILLING CODE 7590-01-P